DEPARTMENT OF COMMERCE

Bureau of the Census

15 CFR Part 30

[Docket Number 100318153-3914-03]

RIN 0607-AA50

Foreign Trade Regulations (FTR): Mandatory Automated Export System Filing for All Shipments Requiring Shipper's Export Declaration Information: Substantive Changes and Corrections

AGENCY: Bureau of the Census, Commerce Department.

ACTION: Final rule; delay of effective date and announcement of OMB approval of new information collection requirements.

SUMMARY: The Bureau of the Census (Census Bureau) is announcing the delay of the effective date of the final rule published March 14, 2013, scheduled to take effect on January 8, 2014, until April 5, 2014. This rule also announces the approval by the Office of Management and Budget (OMB) under the Paperwork Reduction Act (PRA) of modifications to an existing information collection and the collection of two new data elements in the Automated Export System (AES) under control number 0607-0152.

DATES: The effective date of the final rule published on March 14, 2013, (78 FR 16366) is delayed until April 5, 2014. OMB approved the collection of two new data elements through the AES under control number 0607-0152 on May 6, 2013.

ADDRESSES: Direct all written comments regarding the burden-hour estimates or other aspects of the collection-of-information requirements contained in this final rule to Jennifer Jessup, Departmental Paperwork Clearance Officer, Department of Commerce, Room 6616, 14th and Constitution Avenue NW., Washington, DC 20230 (or via the Internet at JJessup@doc.gov).

FOR FURTHER INFORMATION CONTACT: Nick Orsini, Chief, Foreign Trade Division, U.S. Census Bureau, Room 6K032, Washington, DC 20233-6010, by phone (301) 763-6959, by fax (301) 763-6638, or by email <nick.orsini@census.gov>.

SUPPLEMENTARY INFORMATION: The AES is the primary instrument used for collecting export trade data, which is used by the Census Bureau for statistical purposes only and by other federal government agencies for purposes of enforcing U.S. export laws and regulations. On March 14, 2013, the Census Bureau published a final rule amending its regulations to require new export reporting requirements. See 78 FR 16366. In particular, the rule implemented a requirement to report shipments of used self-propelled vehicles and temporary exports through the AES or through AESDirect. In addition, the rule required the reporting of two new data elements, license value (15 CFR 30.6(b)(15)) and ultimate consignee type (15 CFR 30.6(a)(28)), and modified the postdeparture filing requirements. These changes are being programmed in the Automated Commercial Environment for Exports. However, the functionality to support the revisions addressed in the FTR final rule published March 14, 2013, will not be completed by the original effective date of January 8, 2014. Therefore, the Census Bureau and U.S. Customs and Border Protection agreed to delay the effective date for this rule until April 5, 2014. As a result of this rule, the trade community does not have to comply with the requirements implemented by the March 14, 2013, final rule until April 5, 2014.

This rule also announces OMB's approval of amendments to the information collection requirements previously approved under OMB control number 0607-0152, and the implementation of two new data elements. The March 14, 2013, final rule implemented the mandatory filing of export information through the AES or through AESDirect for all shipments of used self-propelled vehicles and for temporary exports. In addition, the final rule outlined the reporting of two additional fields, license value (15 CFR 30.6(b)(15)) and ultimate consignee type (15 CFR 30.6(a)(28)), and modified the postdeparture filing requirements. OMB approved these information collection requirements on May 6, 2013.

Executive Orders

This rule has been determined to be not significant for purposes of Executive Order 12866.

It has been determined that this rule does not contain policies with federalism implications as that term is defined under Executive Order 13132.

Dated: November 6, 2013.
John H. Thompson,
Director, Bureau of the Census.

[FR Doc. 2013-27122 Filed 11-12-13; 8:45 am]

BILLING CODE 3510-07-P